DEPARTMENT OF HEALTH AND HUMAN SERVICES

Health Resources and Services Administration

Availability of Funds

AGENCY: Health Resources and Services Administration (HRSA), HHS.

ACTION: General notice.

SUMMARY: This notice extends the deadline for fiscal year 2003 applications for Chiropractic Demonstration Project (CHIRO) Grants (Sec. 755(b)(3) of the Public Health Service Act) and expands the purpose of the Program. An August 9, 2002 Federal Register notice in the HRSA Preview (67 FR 52049) announced that the deadline for applications for the Chiropractic Demonstration Projects Program was March 31, 2003 and that the purpose of the Chiropractic Demonstration Projects Program is to carry out demonstration projects in which chiropractors and physicians collaborate to identify and provide effective treatment for spinal and lower-back conditions. The FY 2003 Appropriations Act, Public Law 108-7, expanded the purpose of the program to add funding for training components. Therefore, the deadline for applications is extended to June 20, 2003. Please mail applications to HRSA Grants Application Center, 901 Russell Avenue, Suite 450, Gaithersburg, Maryland 20857, postmarked no later than June 20, 2003.

FOR FURTHER INFORMATION CONTACT: Jennifer Hannah, Division of State, Community and Public Health, Bureau of Health Professions, Parklawn Building, Room 8-103, 5600 Fishers Lane, Rockville, Maryland 20857 (301) 443-0908 (jhannah@hrs.gov).

Dated: May 20, 2003.
Jane M. Harrison,
Director, Division of Policy Review and Coordination.

[FR Doc. 03-13226 Filed 5-27-03; 8:45 am]

BILLING CODE 4165-15-P